NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that twenty-four meetings of the Humanities Panel will be held during July 2012, as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. Date: July 10, 2012.

Time: 8:30 a.m. to 5 p.m.

Room: 421.

This meeting will discuss applications of Colleges & Universities submitted to the Challenge Grants program in the Office of Challenge Grants.

2. Date: July 17, 2012.

Time: 8:30 a.m. to 5 p.m.

Room: 315.

This meeting will discuss applications on the subject of Literature & Language submitted to the Awards for Faculty grant program in the Division of Research Programs.

3. Date: July 17, 2012.

Time: 8:30 a.m. to 5 p.m.

Room: 415.

This meeting will discuss applications on the subject of History & Social Science submitted to the Awards for Faculty grant program in the Division of Research Programs.

4. Date: July 17, 2012.

Time: 8:30 a.m. to 5 p.m.

Room: 421.

This meeting will discuss applications of Colleges & Universities submitted to the Challenge Grants program in the Office of Challenge Grants.

5. Date: July 18, 2012.

Time: 8:30 a.m. to 5 p.m.

Room: 315.

This meeting will discuss applications on the subject of The Arts, Philosophy & Religion submitted to the Awards for Faculty grant program in the Division of Research Programs.

6. Date: July 18, 2012.

Time: 8:30 a.m. to 5 p.m.

Room: 415.

This meeting will discuss applications on the subject of History & Social Science submitted to the Awards for Faculty grant program in the Division of Research Programs.

7. Date: July 19, 2012.

Time: 8:30 a.m. to 5 p.m.

Room: 421.

This meeting will discuss applications on the subject of History submitted to the Challenge Grants program in the Office of Challenge Grants.

8. Date: July 19, 2012.

Time: 8:30 a.m. to 5 p.m.

Room: 315.

This meeting will discuss applications on the subject of British Literature submitted to the Fellowships for University Teachers grant program in the Division of Research Programs.

9. Date: July 19, 2012.

Time: 8:30 a.m. to 5 p.m.

Room: 415.

This meeting will discuss applications on the subject of British Literature submitted to the Fellowships for University Teachers grant program in the Division of Research Programs.

10. Date: July 23, 2012.

Time: 8:30 a.m. to 5 p.m.

Room: 415.

This meeting will discuss applications on the subject of Communications, Media, Rhetoric & Linguistics submitted to the Fellowships for University Teachers grant program in the Division of Research Programs.

11. Date: July 23, 2012.

Time: 8:30 a.m. to 5 p.m.

Room: 315.

This meeting will discuss applications on the subject of Art History submitted to the Fellowships for University Teachers grant program in the Division of Research Programs.

12. Date: July 24, 2012.

Time: 8:30 a.m. to 5 p.m.

Room: 421.

This meeting will discuss applications for Research Institutes submitted to the Challenge Grants program in the Office of Challenge Grants.

13. Date: July 24, 2012.

Time: 8:30 a.m. to 5 p.m.

Room: 315.

This meeting will discuss applications on the subject of Music submitted to the Fellowships for University Teachers grant program in the Division of Research Programs.

14. Date: July 24, 2012.

Time: 8:30 a.m. to 5 p.m.

Room: 415.

This meeting will discuss applications on the subject of Music submitted to the Fellowships for University Teachers grant program in the Division of Research Programs.

15. Date: July 25, 2012.

Time: 8:30 a.m. to 5 p.m.

Room: 315.

This meeting will discuss applications on the subject of Philosophy submitted to the Fellowships for University Teachers grant program in the Division of Research Programs.

16. Date: July 25, 2012.

Time: 8:30 a.m. to 5 p.m.

Room: 415.

This meeting will discuss applications on the subject of Philosophy submitted to the Fellowships for University Teachers grant program in the Division of Research Programs.

17. Date: July 26, 2012.

Time: 8:30 a.m. to 5 p.m.

Room: 421.

This meeting will discuss applications on the subject of History submitted to the Challenge Grants program in the Office of Challenge Grants.

18. Date: July 26, 2012.

Time: 8:30 a.m. to 5 p.m.

Room: 415.

This meeting will discuss applications on the subject of Literary Theory & Film submitted to the Fellowships for University Teachers grant program in the Division of Research Programs.

19. Date: July 26, 2012.

Time: 8:30 a.m. to 5 p.m.

Room: 315.

This meeting will discuss applications on the subject of Comparative Literature submitted to the Fellowships for University Teachers grant program in the Division of Research Programs.

20. Date: July 27, 2012.

Time: 8:30 a.m. to 5 p.m.

Room: 315.

This meeting will discuss applications on the subject of American History submitted to the Fellowships for University Teachers grant program in the Division of Research Programs.

21. Date: July 27, 2012.

Time: 8:30 a.m. to 5 p.m.

Room: 415.

This meeting will discuss applications on the subject of American History submitted to the Fellowships for University Teachers grant program in the Division of Research Programs.

22. Date: July 30, 2012.

Time: 8:30 a.m. to 5 p.m.

Room: 315.

This meeting will discuss applications on the subject of American Studies submitted to the Fellowships for University Teachers grant program in the Division of Research Programs.

23. Date: July 31, 2012.

Time: 8:30 a.m. to 5 p.m.

Room: Via conference call.

This meeting will discuss applications of Public Libraries submitted to the Challenge Grants program in the Office of Challenge Grants.

24. Date: July 31, 2012.

Time: 8:30 a.m. to 5 p.m.

Room: 315.

This meeting will discuss applications on the subject of American Literature submitted to the Fellowships for University Teachers grant program in the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: June 15, 2012.
Lisette Voyatzis,
Committee Management Officer.

[FR Doc. 2012-15087 Filed 6-19-12; 8:45 am]

BILLING CODE 7536-01-P